DEPARTMENT OF TRANSPORTATION

Federal Aviation Administration

14 CFR Part 39

[Docket No. FAA-2025-0615; Project Identifier MCAI-2023-00990-R; Amendment 39-23112; AD 2025-17-02]

RIN 2120-AA64

Airworthiness Directives; Airbus Helicopters

AGENCY: Federal Aviation Administration (FAA), DOT.

ACTION: Final rule.

SUMMARY: The FAA is adopting a new airworthiness directive (AD) for all Airbus Helicopters Model EC120B, EC 130 B4, and EC 130 T2 helicopters. This AD was prompted by a report of a missing retaining ring between the supply hose and the central supply coupling of an emergency flotation system (EFS) inflation assembly. This AD requires inspecting for the presence of the retaining ring in an EFS with certain inflation assemblies installed and, depending on the results, taking corrective action. This AD also prohibits installing an EFS with those inflation assemblies installed. The FAA is issuing this AD to address the unsafe condition on these products.

DATES: This AD is effective September 26, 2025.

The Director of the Federal Register approved the incorporation by reference of certain publications listed in this AD as of September 26, 2025.

ADDRESSES:

AD Docket: You may examine the AD docket at regulations.gov under Docket No. FAA-2025-0615; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find the EASA material on the EASA website at ad.easa.europa.eu.

• For Safran Aerosystems material identified in this AD, contact Safran Aerosystems, Floats & Rafts, 58 rue de Segonzac—B.P. 81, 16103 Cognac Cedex, France; phone: +33 5 45 83 20 20; email: technical.retrofit.sao@safrangroup.com; website: www.safran-aerosystems.com/customers.

• You may view this material at the FAA, Office of the Regional Counsel, Southwest Region, 10101 Hillwood Parkway, Room 6N-321, Fort Worth, TX 76177. For information on the availability of this material at the FAA, call (817) 222-5110. The EASA material is also available at regulations.gov under Docket No. FAA-2025-0615.

FOR FURTHER INFORMATION CONTACT: Alexis Whitaker, Aviation Safety Engineer, FAA, 1600 Stewart Avenue, Suite 410, Westbury, NY 11590; phone: (516) 228-7309; email: alexis.j.whitaker@faa.gov.

SUPPLEMENTARY INFORMATION:

Background

The FAA issued a notice of proposed rulemaking (NPRM) to amend 14 CFR part 39 by adding an AD that would apply to all Airbus Helicopters Model EC120B, EC 130 B4, and EC 130 T2 helicopters. The NPRM was published in the Federal Register on April 15, 2025 (90 FR 15659). The NPRM was prompted by EASA AD 2023-0166, dated August 25, 2023 (EASA AD 2023-0166) (also referred to as the MCAI), issued by EASA, which is the Technical Agent for the Member States of the European Union. The MCAI advises of a report that, during a maintenance check of a helicopter, it was discovered that a retaining ring was missing from the connection between the supply hose and the central supply coupling of an EFS inflation assembly. The MCAI states that the unsafe condition, if not detected and corrected, could lead to inflation of the EFS on only one side of the helicopter after ditching, which could result in immediate capsizing of the helicopter, possibly preventing the evacuation of occupants. In the NPRM, the FAA proposed to require inspecting for the presence of the retaining ring in an EFS with certain inflation assemblies installed and, depending on the results, taking corrective action. The NPRM also proposed to prohibit installing an EFS with those inflation assemblies installed. The FAA is issuing this AD to address the unsafe condition on these products.

Discussion of Final Airworthiness Directive

Comments

The FAA received comments from three commenters. Commenters included two individuals and Air Evac Lifeteam. The two individuals supported the NPRM without change. The following presents the comment received from Air Evac Lifeteam on the NPRM and the FAA's response to this comment.

Request To Revise Compliance Statement and Requirement

Air Evac Lifeteam stated that there is not a specified compliance path for any aircraft that does not have an EFS inflation system installed. The commenter suggested adding a compliance statement (requirement) to verify that an affected part is installed. The commenter added that if the affected part is not installed, then no further action would be required.

The FAA disagrees with the commenter's request to revise the compliance requirements. As stated in the MCAI, which is incorporated by reference in this AD, “Group 2 helicopters are those that do not have an affected part installed.” Operators are responsible for reviewing their aircraft records to determine whether their helicopters are classified under Group 2. If so, no further action is required beyond maintaining standard documentation in accordance with their approved procedures and ensuring that an EFS with those inflation assemblies installed is not installed on a Group 2 helicopter. Therefore, an additional compliance statement is unnecessary, as the existing language in the MCAI already defines the applicability of the AD based on the presence or absence of the affected part. The FAA has not changed this AD in this regard.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Additional Changes Made to this Final Rule

In the NPRM, the FAA designated paragraph (g) as “Clarification of Required Material.” This final rule redesignates paragraph (g) of this AD as “Required Actions” and moves the clarification of required material to paragraph (h)(2) of this AD. The FAA redesignated paragraph (g) to (h)(2) to further clarify that operators must use Safran Aerosystems Service Bulletin 025-69-42, Revision 00, dated June 13, 2023, where EASA AD 2023-0166 refers to “the Vendor SB.”

Material Incorporated by Reference Under 1 CFR Part 51

The FAA reviewed EASA AD 2023-0166, which specifies procedures for inspecting the connection between the supply hose and the central supply coupling for the presence of the retaining ring in the EFS with certain inflation assemblies installed and, depending on the results, corrective action, which includes either sending the EFS to Safran Aerosystems or a Safran-approved repair center or installing a retaining ring. EASA AD 2023-0166 also prohibits installing an EFS with those inflation assemblies installed on any helicopter.

The FAA also reviewed Safran Aerosystems Service Bulletin 025-69-42, Revision 00, dated June 13, 2023, which specifies procedures for inspecting the connection between the supply hose and the central supply coupling for the presence of the retaining ring in the EFS with certain inflation assemblies installed. If the retaining ring is present, this material specifies procedures for wrapping the supply hose connection with new adhesive tape. If the retaining ring is not present, this material specifies procedures for installing a retaining ring.

This material is reasonably available because the interested parties have access to it through their normal course of business or by the means identified in the ADDRESSES section.

Differences Between This AD and the MCAI

The MCAI applies to Airbus Helicopters Model EC 175 B helicopters, whereas this AD does not because that model does not have an FAA type certificate.

Costs of Compliance

The FAA estimates that this AD affects 359 helicopters of U.S. registry.

The FAA estimates the following costs to comply with this AD.

Estimated Cost
Action | Labor cost | Parts cost | Cost per product | Cost on U.S. operators
Inspect EFS inflation assembly | 4.5 work-hours × $85 per hour = $383 | $0 | $383 | $137,318

The FAA estimates the following costs to do any necessary replacements that would be required based on the results of the required inspection. The agency has no way of determining the number of helicopters that might need this replacement:

On-Condition Costs
Action | Labor cost | Parts cost | Cost per product
Install retaining ring | 0.25 work-hours × $85 per hour = $21.25 | $11 | $32.25

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-17-02 Airbus Helicopters: Amendment 39-23112; Docket No. FAA-2025-0615; Project Identifier MCAI-2023-00990-R.

(a) Effective Date

This airworthiness directive (AD) is effective September 26, 2025.

(b) Affected ADs

None.

(c) Applicability

This AD applies to Airbus Helicopters Model EC120B, EC 130 B4, and EC 130 T2 helicopters, certificated in any category.

(d) Subject

Joint Aircraft System Component (JASC) Code 3212, Emergency Flotation Section.

(e) Unsafe Condition

This AD was prompted by a report of a missing retaining ring between the supply hose and the central supply coupling of an emergency flotation system (EFS) inflation assembly. The FAA is issuing this AD to detect and address a missing EFS inflation assembly retaining ring. The unsafe condition, if not addressed, could result in improper inflation of the EFS, immediate capsizing of the helicopter, and subsequent prevention of the evacuation of occupants.

(f) Compliance

Comply with this AD within the compliance times specified, unless already done.

(g) Required Actions

Except as specified in paragraphs (h) and (i) of this AD: Comply with all required actions and compliance times specified in, and in accordance with, European Union Aviation Safety Agency AD 2023-0166, dated August 25, 2023 (EASA AD 2023-0166).

(h) Exceptions to EASA AD 2023-0166

(1) Where EASA AD 2023-0166 refers to its effective date, this AD requires using the effective date of this AD.

(2) Where EASA AD 2023-0166 defines “the Vendor SB”, for this AD, operators must use Safran Aerosystems Service Bulletin 025-69-42, Revision 00, dated June 13, 2023.

(3) Where EASA AD 2023-0166 defines the “affected part”, this AD requires replacing “the ASB (as defined in this AD)” and “the ASB” with “Airbus Helicopters Alert Service Bulletin ASB EC120-25-40-0001 and ASB EC130-25-40-0001, each Issue 001 and dated July 12, 2023, as applicable”.

(4) Where paragraph (1) of EASA AD 2023-0166 states “At the time of next removal of the EFS from the helicopter or within 19 months, whichever occurs first”, this AD requires replacing that text with “Within 19 months”.

(5) Where the ASB, as defined and referenced in EASA AD 2023-0166, specifies sending parts to the manufacturer, this AD does not require that action.

(6) Where the Vendor SB, referenced in the ASB, as defined and referenced in EASA AD 2023-0166, specifies that its procedures must be performed by the Safran Aerosystems repair network or by staff able to perform the float maintenance in accordance with applicable maintenance documentation, this AD requires that those procedures be accomplished by persons authorized under 14 CFR 43.3.

(7) Where the Vendor SB, referenced in the ASB, as defined and referenced in EASA AD 2023-0166, specifies discarding adhesive tape, this AD requires removing the adhesive tape from service.

(8) This AD does not adopt the “Remarks” section of EASA AD 2023-0166.

(i) No Reporting Requirement

Although the material referenced in EASA AD 2023-0166 specifies to submit certain information to the manufacturer, this AD does not require that action.

(j) Special Flight Permits

Special flight permits may be issued in accordance with 14 CFR 21.197 and 21.199 to operate the helicopter to a location where the actions required by this AD can be accomplished, provided it is a non-revenue and no passenger flight and without flight over water.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and email to: AMOC@faa.gov.

(2) Before using any approved AMOC, notify your appropriate principal inspector, or lacking a principal inspector, the manager of the local flight standards district office/certificate holding district office.

(l) Additional Information

For more information about this AD, contact Alexis Whitaker, Aviation Safety Engineer, FAA, 1600 Stewart Avenue, Suite 410, Westbury, NY 11590; phone: (202) 975-4867; email: alexis.j.whitaker@faa.gov.

(m) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2023-0166, dated August 25, 2023.

(ii) Safran Aerosystems Service Bulletin 025-69-42, Revision 00, dated June 13, 2023.

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) For Safran Aerosystems material identified in this AD, contact Safran Aerosystems, Floats & Rafts, 58 rue de Segonzac—B.P. 81, 16103 Cognac Cedex, France; phone: +33 5 45 83 20 20; email: technical.retrofit.sao@safrangroup.com; website: www.safran-aerosystems.com/customers.

(5) You may view this material at the FAA, Office of the Regional Counsel, Southwest Region, 10101 Hillwood Parkway, Room 6N-321, Fort Worth, TX 76177. For information on the availability of this material at the FAA, call (817) 222-5110.

(6) You may view this material at the National Archives and Records Administration (NARA). For information on the availability of this material at NARA, visit www.archives.gov/federal-register/cfr/ibr-locations or email fr.inspection@nara.gov.

Issued on August 14, 2025.
Steven W. Thompson,
Acting Deputy Director, Compliance & Airworthiness Division, Aircraft Certification Service.

[FR Doc. 2025-16083 Filed 8-21-25; 8:45 am]

BILLING CODE 4910-13-P